DEPARTMENT OF HOMELAND SECURITY

Notice of the Critical Infrastructure Partnership Advisory Council

AGENCY: Cybersecurity and Infrastructure Security Agency (CISA), Department of Homeland Security (DHS).

ACTION: Notice of availability; Critical Infrastructure Partnership Advisory Council membership update.

SUMMARY: On November 30, 2021, the Department updated the Critical Infrastructure Partnership Advisory Council (CIPAC) Membership. Through this notice, the Department is making the updated CIPAC Membership Rosters publicly available on the CIPAC website.

FOR FURTHER INFORMATION CONTACT: Ginger K. Norris, 202-441-5885, CIPAC@cisa.dhs.gov.

SUPPLEMENTARY INFORMATION: DHS established the CIPAC on March 24, 2006. (71 FR 14930). The CIPAC facilitates interactions between government officials and representatives of owners and/or operators for each of the critical infrastructure sectors designated in Presidential Policy Directive 21 and identified in the current National Infrastructure Protection Plan. Pursuant to section V.C.5 of the CIPAC Charter, the CIPAC Executive Secretariat is required to maintain a membership list on the publicly-available CIPAC website and publish annual updates to announce changes in CIPAC membership. Please visit https://www.cisa.gov/critical-infrastructure-partnership-advisory-council for more information on CIPAC and to view the CIPAC Membership Rosters.

Ginger K. Norris,
Designated Federal Official, Critical Infrastructure Partnership Advisory Council, Cybersecurity and Infrastructure Security Agency, Department of Homeland Security.

[FR Doc. 2021-28177 Filed 12-27-21; 8:45 am]

BILLING CODE 9110-9P-P